ENVIRONMENTAL PROTECTION AGENCY

[FRL-8200-4]

Clean Water Act Section 303(d): Availability of Total Maximum Daily Loads (TMDL)

AGENCY: Environmental Protection Agency (EPA).

ACTION: Notice of availability.

SUMMARY: This notice announces the availability for comment of the administrative record files for 85 TMDLs and the calculations for these TMDLs prepared by EPA Region 6 for waters listed in the Red River, Sabine River, and Terrebonne Basins of Louisiana, under section 303(d) of the Clean Water Act (CWA). These TMDLs were completed in response to a court order in the lawsuit styled Sierra Club, et al. v. Clifford, et al., No. 96-0527, (E.D. La.).

DATES: Comments must be submitted in writing to EPA on or before August 21, 2006.

ADDRESSES: Comments on the 85 TMDLs should be sent to Diane Smith, Environmental Protection Specialist, Water Quality Protection Division, U.S. Environmental Protection Agency Region 6, 1445 Ross Ave., Dallas, TX 75202-2733 or e-mail: smith.diane@epa.gov. For further information, contact Diane Smith at (214) 665-2145 or fax 214.665.7373. The administrative record files for the 85 TMDLs are available for public inspection at this address as well. Documents from the administrative record files may be viewed at http://www.epa.gov/region6/water/tmdl.htm, or obtained by calling or writing Ms. Smith at the above address. Please contact Ms. Smith to schedule an inspection.

FOR FURTHER INFORMATION CONTACT: Diane Smith at (214) 665-2145.

SUPPLEMENTARY INFORMATION: In 1996, two Louisiana environmental groups, the Sierra Club and Louisiana Environmental Action Network (plaintiffs), filed a lawsuit in Federal Court against the EPA, styled Sierra Club, et al. v. Clifford, et al., No. 96-0527, (E.D. La.). Among other claims, plaintiffs alleged that EPA failed to establish Louisiana TMDLs in a timely manner. EPA proposes 63 of these TMDLs pursuant to a consent decree entered in this lawsuit.

EPA Seeks Comment on 85 TMDLs

By this notice EPA is seeking comment on the following 85 TMDLs for waters located within Louisiana basins:

Subsegment | Waterbody name | Pollutant
100306 | Kelly Bayou—AR State Line to Black Bayou | Fecal Coliform.
100309 | Cross Bayou | Turbidity, TDS, Chloride, Sulfate, and TSS.
100406 | Flat River—Headwaters to Loggy Bayou | Fecal Coliform and TDS.
100602 | Boggy Bayou | Turbidity and Sedimentation/siltation.
100603 | Wallace Lake | Turbidity and Sedimentation/siltation.
100701 | Black Lake Bayou | Turbidity, TDS, and Sedimentation/siltation.
100704 | Kepler Creek | TDS.
100707 | Castor Creek—Headwaters to Black Lake Bayou | Fecal Coliform.
100708 | Unnamed Tributary to Castor Creek near Town of Castor | Sulfate and TDS.
100709 | Grand Bayou—Headwaters to Black Lake Bayou | Fecal Coliform.
100710 | Unnamed Tributary to Grand Bayou near Town of Hall Summit | TDS, Chloride, and Sulfate.
100801 | Saline Bayou—from its origin near Arcadia to LA Hwy 156 in Winn Parish (scenic) | Fecal Coliform.
100804 | Unnamed Tributary to Saline Bayou near Town of Arcadia | TDS and Sulfate.
100901 | Nantaches Creek—Headwaters to Nantaches Lake | Fecal Coliform.
101101 | Cane River—above Natchitoches to Red River | TDS and Chloride.
101103 | Bayou Kisatchie—entrance and into Kisatchie National Forest to Old River (scenic) | Fecal Coliform and TDS.
101301 | Rigolette Bayou—Headwaters to Red River | Fecal Coliform.
101303 | Latt Creek—Headwaters to Latt Lake | TDS.
101401 | Buhlow Lake (Pineville) | Turbidity.
101503 | Old Saline Bayou—from Saline Lake to Red River | Turbidity.
101505 | Larto Lake | Turbidity, TDS, and Sulfate.
101601 | Bayou Cocodrie—from Little Cross Bayou to Wild Cow Bayou (scenic) | Turbidity.
101602 | Cocodrie Lake | Turbidity.
110202 | Pearl Creek—from its origin to its entrance into Sabine River (scenic) | Fecal Coliform.
110401 | Bayou Toro—Headwaters to LA Hwy 473 | Fecal Coliform.
110402 | Bayou Toro—LA Hwy 473 to its entrance into Sabine River | Fecal Coliform.
110501 | West Anacoco Creek—Headwaters to Vernon Lake | Fecal Coliform.
110504 | Bayou Anacoco—Vernon Lake to Anacoco Lake | Fecal Coliform.
110601 | Vinton Waterway | Turbidity.
120101 | Bayou Portage | TDS, Chloride, Fecal Coliform, and TSS.
120102 | Bayou Poydras | Sediment, Sulfate, TDS, TSS, and Fecal Coliform.
120104 | Bayou Grosse Tete | Fecal Coliform and TDS.
120105 | Chamberlin Canal | Fecal Coliform, TSS, and Sediment.
120106 | Bayou Plaquemine | Turbidity.
120109 | Intracoastal Waterway | Fecal Coliform.
120110 | Bayou Cholpe | TDS and Sulfate.
120111 | Bayou Maringouin—Headwaters to East Atchafalaya Basin Levee | Fecal Coliform and TDS.
120112 | Bayou Fordoche | Fecal Coliform and TDS.
120201 | Lower Grand River and Belle River | Fecal Coliform and Sulfate.
120206 | Grand Bayou and Little Grand Bayou | Fecal Coliform.
120301 | Bayou Terrebonne | Fecal Coliform.
120502 | Bayou Grand Caillou | Fecal Coliform.
120503 | Bayou Petit Caillou | Fecal Coliform.
120504 | Bayou Petit Caillou | Fecal Coliform.
120506 | Bayou du Large | Fecal Coliform.
120507 | Bayou Chauvin | Fecal Coliform.
120508 | Houma Navigation Canal | Fecal Coliform.
120602 | Bayou Terrebonne | Fecal Coliform.
120605 | Bayou Pointe au Chien | Fecal Coliform.
120606 | Bayou Blue | Fecal Coliform.
120701 | Bayou Grand Caillou | Fecal Coliform.
120703 | Bayou du Large | Fecal Coliform.
120707 | Lake Boudreaux | Fecal Coliform.
120708 | Lost Lake, Four League Bay | Fecal Coliform.

EPA requests that the public provide to EPA any water quality related data and information that may be relevant to the calculations for the 85 TMDLs. EPA will review all data and information submitted during the public comment period and revise the TMDLs where appropriate. EPA will then forward the TMDLs to the Louisiana Department of Environmental Quality (LDEQ). The LDEQ will incorporate the TMDLs into its current water quality management plan.

Dated: July 13, 2006.
Miguel I. Flores,
Director, Water Quality Protection Division (6WQ).

[FR Doc. E6-11529 Filed 7-19-06; 8:45 am]

BILLING CODE 6560-50-P